DEPARTMENT OF ENERGY

10 CFR Parts 429 and 430

[EERE-2021-BT-TP-0030]

RIN 1904-AF29

Energy Conservation Program: Test Procedure for Central Air Conditioners and Heat Pumps

Correction

In rule document 2022-22257, appearing on pages 64550-64607, in the issue of Tuesday, October 25, 2022, make the following correction:

▪ Appendix M to Subpart B of Part 430 [Corrected]

On page 64588, in Appendix M to Subpart B of Part 430, in the third column, the equation in the 6th line down is corrected to read as set forth below.

Xk=2(Tj) = BL(Tj)/Qnk=2(Tj)

[FR Doc. C1-2022-22257 Filed 11-4-22; 8:45 am]

BILLING CODE 0099-10-P